DEPARTMENT OF TRANSPORTATION

Federal Aviation Administration

Notice of Availability of Draft Advisory Circulars, Other Policy Documents and Proposed Technical Standard Orders

AGENCY: Federal Aviation Administration (FAA), DOT.

ACTION: Notice of Availability.

SUMMARY: The FAA's Aviation Safety, an organization responsible for the certification, production approval, and continued airworthiness of aircraft, and certification of pilots, mechanics, and others in safety related positions, publishes proposed non-regulatory documents that are available for public comment on the Internet at http://www.faa.gov/aircraft/draft_docs/.

DATES: We must receive comments on or before the due date for each document as specified on the Web site.

ADDRESSES: Send comments on proposed documents to the FAA at the address specified on the Web site for the document you comment on, to the attention of the individual and office identified as point of contact for the document.

FOR FURTHER INFORMATION CONTACT: The individual or FAA office identified on the Web site for the specified document.

SUPPLEMENTARY INFORMATION: Final Advisory Circulars (ACs), other policy documents, and Technical Standard Orders (TSOs), including final documents published by the Aircraft Certification Service, are available on FAA's Regulatory and Guidance Library (RGL) at http://rgl.faa.gov/.

Comments Invited

You will find draft ACs, other policy documents, and proposed TSOs currently offered by Aviation Safety on FAA “Aviation Safety Draft Documents Open for Comment” Web site at http://www.faa.gov/aircraft/draft_docs/. We do not publish an individual Federal Register Notice for each document we make available for public comment on the Web site. The FAA invites comments on these draft documents. When commenting on draft ACs, other policy documents or proposed TSOs, you should identify the document by its number. The Aviation Safety organization will consider all comments received on or before the closing date before issuing a final document. For Internet retrieval assistance, contact the AIR Web Content Program Manager at (202) 267-3074.

To obtain a paper copy of the draft document or proposed TSO, contact the individual or FAA office responsible for the document as identified on the Web site.

Background

This is a recurring Notice of Availability, and request for comments, on draft ACs, other policy documents, and proposed TSOs currently offered by Aviation Safety on the Web site at http://www.faa.gov/aircraft/draft_docs/. On the Web site, you may subscribe to receive e-mail notification when new draft documents are made available. This notice of availability and request for comments on FAA Aviation Safety draft documents will appear again in 180 days.

Issued in Washington, DC on December 10, 2008.
Jennifer Arquilla,
Manager, Planning and Program Management Division, Aircraft Certification Service.

[FR Doc. E8-30070 Filed 12-17-08; 8:45 am]

BILLING CODE 4910-13-P